Title 3—

The President

Executive Order 13821 of January 8, 2018

Streamlining and Expediting Requests To Locate Broadband Facilities in Rural America

By the authority vested in me as President by the Constitution and the laws of the United States of America, and in order to promote better access to broadband internet service in rural America, it is hereby ordered as follows:

Section 1. Policy. Americans need access to reliable, affordable broadband internet service to succeed in today's information-driven, global economy. Currently, too many American citizens and businesses still lack access to this basic tool of modern economic connectivity. This problem is particularly acute in rural America, and it hinders the ability of rural American communities to increase economic prosperity; attract new businesses; enhance job growth; extend the reach of affordable, high-quality healthcare; enrich student learning with digital tools; and facilitate access to the digital marketplace.

It shall therefore be the policy of the executive branch to use all viable tools to accelerate the deployment and adoption of affordable, reliable, modern high-speed broadband connectivity in rural America, including rural homes, farms, small businesses, manufacturing and production sites, tribal communities, transportation systems, and healthcare and education facilities.

To implement this policy and enable sustainable rural broadband infrastructure projects, executive departments and agencies (agencies) should seek to reduce barriers to capital investment, remove obstacles to broadband services, and more efficiently employ Government resources.

Among other actions, the executive branch will continue its implementation of section 6409 of the Middle Class Tax Relief and Job Creation Act of 2012 (Public Law 112-96) (“section 6409”), which requires, among other things, that the General Services Administration (GSA) develop a common form and master contract for wireless facility sitings on buildings and other property owned by the Federal Government. These documents enable the Federal Government to process wireless facility siting requests more efficiently and will also provide additional predictability regarding the availability of locations for asset installation to installers of wireless broadband facilities.

Sec. 2. Reviewing Requests to Locate Broadband Facilities on Federal Real Property. (a) Within 180 days of the date of this order, the Administrator of General Services (Administrator), in coordination with the heads of Federal property managing agencies, shall evaluate the effectiveness of the GSA Common Form Application for use in streamlining and expediting the processing and review of requests to locate broadband facilities on Federal real property.

(b) As part of this evaluation, the Administrator shall determine whether any revisions to the GSA Common Form Application are appropriate and, to the extent consistent with law, shall begin implementation of any such revisions.

(c) In furtherance of section 6409, all applicants and Federal property managing agencies shall use the GSA Common Form Application for wireless service antenna structure siting developed by the Administrator for requests to locate broadband facilities on Federal property. Federal property managing agencies shall expeditiously review and approve such requests unless an approval would negatively affect performance of the agency's mission or otherwise not be in the best interests of the United States.

(d) Within 180 days of the date of this order, and on a quarterly basis thereafter, all Federal property managing agencies shall report to the GSA regarding their required use of the Common Form Application, the number of Common Form Applications received, the percentage approved, the percentage rejected, the basis for any rejection, and the number of working days each application was pending before being approved or rejected. Each report shall include the number of applications received, approved, and rejected within the preceding quarter.

(e) Ninety days after the date of this order, and on a quarterly basis thereafter, the Administrator shall prepare and provide to the Director of the Office of Management and Budget (Director) an aggregated summary report detailing results from the reports submitted under subsection (d) of this section. Not later than 1 year from the date of this order, the Administrator shall recommend to the Director improvements to the Common Form Application needed to further the purposes of this order.

Sec. 3. Definitions. As used in this order:

(a) The term “Federal property managing agencies” means agencies that have custody and control of, or responsibility for managing, Federal lands, buildings, and rights of way, federally assisted highways, and tribal lands.

(b) The term “Federal real property” has the same meaning as that term has in Executive Order 13327 of February 4, 2004 (Federal Real Property Asset Management).

Sec. 4. General Provisions. (a) Nothing in this order shall be construed to impair or otherwise affect:

(i) the authority granted by law to an executive department or agency, or the head thereof; or

(ii) the functions of the Director relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

THE WHITE HOUSE,

January 8, 2018.

[FR Doc. 2018-00553

Filed 1-10-18; 11:15 am]

Billing code 3295-F8-P